DEPARTMENT OF TRANSPORTATION

Surface Transportation Board

[STB Section 5a Application No. 45 (Amendment No. 17)]

Niagara Frontier Tariff Bureau, Inc.—Agreement

By application filed on July 25, 2003, the Niagara Frontier Tariff Bureau, Inc. (NFTB) seeks approval of two categories of changes to its collective ratemaking agreement: (1) amendments that appear to be minor;¹ and (2) amendments that are designed to conform to the Board's decisions in EC-MAC Motor Carrier Service Association, Inc., et al., Section 5a Application No. 118 (Sub-No. 2), et al. (EC-MAC).²

¹ By application filed on December 14, 1998, in Niagara Frontier Tariff Bureau, Inc., Section 5a Application No. 45 (Sub-No. 16), NFTB applied for renewal of its agreement without change. The minor amendments proposed in the instant proceeding apply to NFTB's renewed agreement.

² There, the Board has been considering renewal of the collective ratemaking agreements of NFTB and other bureaus. In decisions served on March 27, 2003, and November 20, 2001, the Board renewed its approval of the bureau agreements, subject to three conditions. First, the bureaus were directed to propose amendment of their agreements to require bureau members to give the truth-in-rates notice described in those decisions when they list rates or otherwise give a rate quote that references a collectively set rate. Second, the bureaus were directed to submit the range-of-discount information specified in the decisions. Third, bureau agreements must require members to certify that they will not apply a loss-of-discount provision that would reinstate the collectively set rate as a penalty for late payment. NFTB's proposed amendments implement these conditions.

The minor amendments proposed by NFTB include: (1) A change in the name of the organization to North American Transportation Council, Inc., with an office located in Ontario, Canada; (2) a non-substantive rewording of the services to be provided by the organization; (3) changes to reflect statutory revisions; (4) a reduction in the quorum required to take action; (5) rates and rules no longer to be discussed at special meetings or annual meetings; (6) membership class of “participating” carriers eliminated (all carriers to be members); (7) new membership class of associate membership for noncarrier entities established; (8) changes in titles of officers; (9) “Rate and Tariff Agreement” provisions to be eliminated as no longer required; (10) changes in “Rate Procedure” provisions so as to eliminate time requirements and other provisions that no longer apply, to reduce notice requirements for meetings, to combine committees, and to eliminate certain provisions governing independent rate action; and (11) changes to eliminate agreements with two other bureaus, the Southern Motor Carriers Rate Conference, Inc., and the Rocky Mountain Motor Tariff Bureau, Inc.

The Board tentatively concludes that the amendments are minor and are consistent with the statutory requirements of 49 U.S.C. 13703. Accordingly, these minor amendments will be approved if no adverse comments are timely filed. Because the issues involving the amendments required by the Board in the EC-MAC proceeding have been fully addressed in that proceeding, the Board is not seeking comments on them here.

By this notice, the Board is giving the public an opportunity to comment on the minor changes proposed by NFTB. An original and 10 copies of any comments, referring to STB Section 5a Application No. 45 (Amendment No. 17), must be sent to: Surface Transportation Board, 1925 K Street, NW., Washington, DC 20423-0001. In addition, one copy of any comments filed with the Board must also be served on applicant's representative: David J. Sirgey, North American Transportation Council, Inc., P.O. Box 548, Buffalo, NY 14225-0548.

NFTB must provide a copy of its application on request to members of the public. A copy of the application, as well as Board decisions and notices, also is available on the Board's Web site at http://www.stb.dot.gov.

Comments must be filed with the Surface Transportation Board by November 17, 2003. NFTB's reply to any comments is due by December 1, 2003.

For more information, contact Joseph H. Dettmar, (202) 565-1609. [Assistance for the hearing impaired is available through the Federal Information Relay Service (FIRS): 1-800-877-8339.]

Decided: October 9, 2003.
By the Board, Chairman Nober.
Vernon A. Williams,
Secretary.

[FR Doc. 03-26132 Filed 10-15-03; 8:45 am]

BILLING CODE 4915-00-P